ENVIRONMENTAL PROTECTION AGENCY

[FRL-8924-6]

Science Advisory Board Staff Office; Notification of Request for Nomination of Experts Clean Air Scientific Advisory Committee (CASAC) Carbon Monoxide Review Panel

AGENCY: Environmental Protection Agency (EPA).

ACTION: Notice.

SUMMARY: The Environmental Protection Agency (EPA) Science Advisory Board (SAB) Staff Office is soliciting nominations of experts to augment the EPA's Clean Air Scientific Advisory Committee (CASAC) Carbon Monoxide Review Panel.

DATES: Nominations should be submitted by July 31, 2009.

FOR FURTHER INFORMATION CONTACT: Any member of the public who wants further information regarding this request may contact Dr. Ellen Rubin, Designated Federal Officer (DFO), EPA Science Advisory Board (1400F), U.S. Environmental Protection Agency, 1200 Pennsylvania Avenue, NW., Washington, DC 20460; via telephone/voice mail (202) 343-9975 or e-mail at rubin.ellen@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. The CASAC provides advice, information and recommendations on the scientific and technical aspects of air quality criteria and National Ambient Air Quality Standards (NAAQS) under sections 108 and 109 of the Act. The CASAC is a Federal advisory committee chartered under the Federal Advisory Committee Act (FACA), as amended, 5 U.S.C., App. 2.

EPA is in the process of reviewing and revising the NAAQS for Carbon Monoxide. Accordingly, a CASAC CO Review Panel was established in 2008 and conducted a consultation on EPA's Plan for Review of the National Ambient Air Quality Standards for Carbon Monoxide (August 2008) and a review of the Integrated Science Assessment for Carbon Monoxide—First External Review Draft (March, 2009). The CASAC reports are available on the CASAC Web site at http://www.epa.gov/ttn/naaqs/standards/co/s_co_index.html.

The SAB staff office is seeking nominations of experts to augment the CASAC CO Panel membership (see membership URL at http://yosemite.epa.gov/sab/sabpeople.nsf/WebCommitteesSubcommittees/Carbon%20Monoxide%20Review%20Panel) in the area of risk assessment and epidemiology.

Process and Deadline for Submitting Nominations: Any interested person or organization may nominate qualified individuals for consideration for membership on the CO Review Panel in the areas of expertise described above. Nominations should be submitted in electronic format through the SAB Web site at http://www.epa.gov/sab directly via the nomination form, following the directions for Nominating Experts to Advisory Panels and Ad Hoc committees carefully. To be considered, nominations should include all of the information required on the associated forms. Anyone unable to submit nominations using the electronic form and who has any questions concerning the nomination process may contact Dr. Ellen Rubin, DFO, as indicated above in this notice. Nominations should be submitted in time to arrive no later than July 31, 2009.

To be considered, all nominations should include: A current curriculum vitae (C.V.) that provides the nominee's background, qualifications, research expertise and relevant publications for service on the Panel; and a brief biographical sketch (“biosketch”).

The biosketch should be no longer than two paragraphs and should contain the following information for the nominee: (a) Current professional affiliations and positions held; (b) educational background, especially advanced degrees, including when and from which institutions these were granted; (c) area(s) of expertise, and research activities and interests relevant to the Panel; and (d) leadership positions in national associations or professional publications or other significant distinctions and service on other advisory committees or professional societies, especially those associated with issues under discussion in this review.

The Web form will also request information about sources of recent (i.e., within the preceding two years) grant and/or other contract support, from government, industry, academia, etc., including the topic area of the funded activity. Please note that even negative responsive information (e.g., no recent grant or contract funding) should be indicated on the biosketch (by “N/A” or “None”). Incomplete biosketches will not be considered. The EPA SAB Staff Office will acknowledge receipt of nominations.

The scientific expertise and credentials of nominees received in reply to this notice will be reviewed for demonstrative experience in the disciplines sought for the CO Review Panel. Qualified nominees will be included in a smaller subset (known as the “Short List”). The Short List will be posted on the SAB Web site at http://www.epa.gov/sab and will include, for each candidate, the nominee's name and their biosketch. Public comments on the Short List will be accepted for a minimum of 21 calendar days. During this comment period, the public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. The SAB Staff Office will consider public comments, information provided by candidates, and background information independently-gathered by the SAB Staff Office on each candidate (e.g., financial disclosure information, and computer searches to evaluate a nominee's prior involvement with the topic under review). Specific criteria to be used in evaluating Short List candidates for Panel membership include: (a) Scientific and/or technical expertise, knowledge, and experience (primary factors); (b) availability and willingness to serve; (c) absence of financial conflicts of interest; (d) absence of an appearance of a lack of impartiality; (e) skills working on committees, subcommittees and advisory panels; and, for the Panel as a whole, (f) diversity of, and balance among, scientific expertise, viewpoints, etc.

Prospective candidates will also be required to fill-out the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: June 23, 2009.
Vanessa T. Vu,
Director, EPA Science Advisory Board Staff Office.

[FR Doc. E9-15414 Filed 6-29-09; 8:45 am]

BILLING CODE 6560-50-P